DEPARTMENT OF THE INTERIOR

National Park Service

National Preservation Technology and Training Board—National Center for Preservation Technology and Training: Meeting

AGENCY: National Park Service, U.S. Department of the Interior.

ACTION: Notice.

SUMMARY: Notice is hereby given in accordance with the Federal Advisory Committee Act (FACA) (5 U.S.C. Appendix (1988)), that the Preservation Technology and Training Board (PTTBoard) of the National Center for Preservation Technology and Training, National Park Service, will meet on Friday and Saturday, May 29-30, 2009 in Natchitoches, Louisiana.

The PTTBoard was established by Congress to provide leadership, policy advice, and professional oversight to the National Center for Preservation Technology and Training (NCPTT) in compliance with Section 404 of the National Historic Preservation Act of 1966, as amended, (16 U.S.C. 470x-2(e)).

The PTTBoard will meet at Lee H. Nelson Hall, the headquarters of NCPTT, at 645 University Parkway, Natchitoches, LA 71457— telephone (318) 356-7444. The meeting will run from 9 a.m. to 5 p.m. on May 29 and from 9 a.m. to 5 p.m. on May 30.

The PTTBoard's meeting agenda will include: review and comment on NCPTT FY2008 accomplishments and operational priorities for FY2009; FY2009 and FY2010 National Center budget and initiatives; the Pocantico Conference on Sustainability in Preservation; revitalization of the Friends of NCPTT; and Board workgroup reports.

The PTTBoard meeting is open to the public. Facilities and space for accommodating members of the public are limited, however, and persons will be accommodated on a first-come, first-served basis. Any member of the public may file a written statement concerning any of the matters to be discussed by the PTTBoard.

Persons wishing more information concerning this meeting, or who wish to submit written statements, may contact: Mr. Kirk A. Cordell, Executive Director, National Center for Preservation Technology and Training, National Park Service, U.S. Department of the Interior, 645 University Parkway, Natchitoches, LA 71457—telephone (318) 356-7444. In addition to U.S. Mail or commercial delivery, written comments may be sent by fax to Mr. Cordell at (318) 356-9119.

Minutes of the meeting will be available for public inspection no later than 90 days after the meeting at the office of the Executive Director, National Center for Preservation Technology and Training, National Park Service, U.S. Department of the Interior, 645 University Parkway, Natchitoches, LA 71457—telephone (318) 356-7444.

Dated: April 28, 2009.
Kirk A. Cordell,
Executive Director, National Center for Preservation Technology and Training, National Park Service.

[FR Doc. E9-11026 Filed 5-11-09; 8:45 am]

BILLING CODE 4312-52-P